DEPARTMENT OF ENERGY

Federal Energy Regulatory Commission

Notice of Commission or Commission Staff Attendance at MISO Meetings

The Federal Energy Regulatory Commission hereby gives notice that members of the Commission and Commission staff may attend the following MISO-related meetings:

• Advisory Committee (10:00 a.m.-1:00 p.m., Local Time)

○ October 22

○ November 19

○ December 10

• Board of Directors Audit & Finance Committee

○ October 22 (3:30 p.m.-5:00 p.m.)

○ November 19 (10:30 a.m.-12:30 a.m.)

• Board of Directors (8:30 a.m.-10:00 a.m., Local Time)

○ October 23

○ December 11

• Board of Directors Markets Committee (8:00 a.m.-10:00 a.m., Local Time)

○ October 22

○ November 19

○ December 10

• Board of Directors System Planning Committee

○ October 15 (11:00 a.m.-12:30 p.m.)

○ November 19 (2:00 p.m.-4:00 p.m.)

○ December 10 (3:30-5:30 p.m.)

• MISO Informational Forum (3:00 p.m.-5:00 p.m., Local Time)

○ October 21

○ November 18

○ December 16

• MISO Market Subcommittee (9:00 a.m.-4:00 p.m., Local Time)

○ October 28

○ December 2

• MISO Supply Adequacy Working Group (9:00 a.m.-5:00 p.m., Local Time)

○ October 30

○ December 4

• MISO Regional Expansion Criteria and Benefits Task Force (9:00 a.m.-5:00 p.m., Local Time)

○ October 16

○ November 13

○ December 18

• MISO Planning Advisory Committee (9:00 a.m.-5:00 p.m., Local Time)

○ October 15

○ November 12

○ December 17

• Organization of MISO States Annual Meeting (9:00 a.m.-2:30 p.m., Local Time)

○ October 21

All of the meetings above will be held at: MISO Headquarters, 701 City Center Drive, 720 City Center Drive, and Carmel, IN 46032.

Further information may be found at www.misoenergy.org.

The above-referenced meetings are open to the public.

The discussions at each of the meetings described above may address matters at issue in the following proceedings:

Docket No. EL14-21, Southwest Power Pool, Inc. v. Midcontinent Independent System Operator, Inc.

Docket No. ER14-1174, Southwest Power Pool, Inc.

Docket No. ER14-2850, Southwest Power Pool, Inc.

Docket No. EL11-34, Midwest Independent Transmission System Operator, Inc. v. Southwest Power Pool, Inc.

Docket Nos. ER04-691, EL04-104 and ER04-106, et al., Midwest Independent Transmission System Operator, Inc., et al.

Order No. 890, Preventing Undue Discrimination and Preference in Transmission Service

Docket Nos. ER06-18, et al., Midwest Independent Transmission System Operator, Inc.

Docket No. ER09-1431, Midwest Independent Transmission System Operator, Inc.

Docket No. ER10-1791, Midwest Independent Transmission System Operator, Inc. and the Midwest ISO Transmission Owners

Docket No. ER10-2283, Midwest Independent Transmission System Operator, Inc.

Docket No. RM10-23 and Order No. 1000, Transmission Planning and Cost Allocation by Transmission Owning and Operating Public Utilities

Docket No. ER11-2275, Midwest Independent Transmission System Operator, Inc.

Docket No. ER11-3279, Midwest Independent Transmission System Operator, Inc.

Docket No. ER11-4081, Midwest Independent Transmission System Operator, Inc.

Docket No. ER12-678, Midwest Independent Transmission System Operator, Inc.

Docket No. ER12-2302, Midwest Independent Transmission System Operator, Inc.

Docket No. ER12-2706, Midwest Independent Transmission System Operator, Inc.

Docket No. EL13-13, ITC Midwest, LLC

Docket No. ER13-187, Midwest Independent Transmission System Operator, Inc.

Docket No. ER13-186, Midwest Independent Transmission System Operator, Inc.

Docket No. ER13-101, Midwest Independent Transmission System Operator, Inc.

Docket No. ER13-89, MidAmerican Energy Company

Docket No. ER12-1266, Midwest Independent Transmission System Operator, Inc.

Docket No. ER12-1265, Midwest Independent Transmission System Operator, Inc.

Docket No. ER12-1564, Midwest Independent Transmission System Operator, Inc.

Docket No. ER12-1194, Midwest Independent Transmission System Operator, Inc.

Docket No. ER12-971, Midwest Independent Transmission System Operator, Inc.

Docket No. ER08-925, Midwest Independent Transmission System Operator, Inc.

Docket No. ER12-309, Midwest Independent Transmission System Operator, Inc.

Docket No. ER12-480, Midwest Independent Transmission System Operator, Inc.

Docket No. ER12-2682, Midwest Independent Transmission System Operator, Inc.

Docket No. ER13-984, Midcontinent Independent System Operator, Inc.

Docket No. ER13-1923, Midcontinent Independent System Operator, Inc.

Docket No. ER13-1695, Midcontinent Independent System Operator, Inc.

Docket No. ER13-1924, Midcontinent Independent System Operator, Inc.

Docket No. ER13-1943, Midcontinent Independent System Operator, Inc.

Docket No. ER13-1944, Midcontinent Independent System Operator, Inc.

Docket No. ER13-1945, Midcontinent Independent System Operator, Inc.

Docket No. ER13-692, Midcontinent Independent System Operator, Inc.

Docket No. ER13-2156, Midcontinent Independent System Operator, Inc.

Docket No. ER13-2375, Midcontinent Independent System Operator, Inc.

Docket No. ER13-2376, Midcontinent Independent System Operator, Inc.

Docket No. ER13-2379, Midcontinent Independent System Operator, Inc.

Docket No. ER14-862, Midcontinent Independent System Operator, Inc.

Docket No. ER14-859, Midcontinent Independent System Operator, Inc.

Docket No. ER13-2233, Midcontinent Independent System Operator, Inc.

Docket No. ER14-836, Midcontinent Independent System Operator, Inc.

Docket No. ER14-801, Midcontinent Independent System Operator, Inc.

Docket No. ER14-790, Midcontinent Independent System Operator, Inc.

Docket No. ER14-503, Midcontinent Independent System Operator, Inc.

Docket No. ER14-721, Midcontinent Independent System Operator, Inc.

Docket No. ER14-706, Midcontinent Independent System Operator, Inc.

Docket No. ER14-684, Midcontinent Independent System Operator, Inc.

Docket No. ER14-705, Midcontinent Independent System Operator, Inc.

Docket No. ER14-698, Midcontinent Independent System Operator, Inc.

Docket No. ER14-689, Midcontinent Independent System Operator, Inc.

Docket No. ER14-684, Midcontinent Independent System Operator, Inc.

Docket No. ER14-681, Midcontinent Independent System Operator, Inc.

Docket No. ER14-659, Midcontinent Independent System Operator, Inc.

Docket No. ER14-649, Midcontinent Independent System Operator, Inc.

Docket No. ER14-421, Midcontinent Independent System Operator, Inc.

Docket No. ER14-422, Midcontinent Independent System Operator, Inc.

Docket No. ER14-624, Midcontinent Independent System Operator, Inc.

Docket No. ER14-256, Midcontinent Independent System Operator, Inc.

Docket No. ER13-2124, Midcontinent Independent System Operator, Inc.

Docket No. ER14-102, Midcontinent Independent System Operator, Inc.

Docket No. ER13-2295, Midcontinent Independent System Operator, Inc.

Docket No. ER14-603, Midcontinent Independent System Operator, Inc.

Docket No. ER14-114, Midcontinent Independent System Operator, Inc.

Docket No. ER14-115, Midcontinent Independent System Operator, Inc.

Docket No. ER13-2378, Midcontinent Independent System Operator, Inc.

Docket No. ER13-2337, Midcontinent Independent System Operator, Inc.

Docket No. ER14-542, Midcontinent Independent System Operator, Inc.

Docket No. ER14-170, Midcontinent Independent System Operator, Inc.

Docket No. ER14-516, Midcontinent Independent System Operator, Inc.

Docket No. ER14-206, Midcontinent Independent System Operator, Inc.

Docket No. ER14-202, Midcontinent Independent System Operator, Inc.

Docket No. ER14-83, Midcontinent Independent System Operator, Inc.

Docket No. ER14-960, Midcontinent Independent System Operator, Inc.

Docket No. ER14-698, Midcontinent Independent System Operator, Inc.

Docket No. EL13-88, Northern Indiana Public Service Corp. v Midcontinent Independent System Operator, Inc., et al.

Docket No. EL14-12, ABATE et al. v Midcontinent Independent System Operator, Inc., et al.

Docket No. AD12-16, Capacity Deliverability across the MISO/PJM Seam

Docket No. AD14-3, Coordination of Energy and Capacity across the MISO/PJM Seam

Docket No. ER13-1938, Midcontinent Independent System Operator, Inc.

Docket No. ER14-990, Midcontinent Independent System Operator, Inc.

Docket No. ER13-2468, Midcontinent Independent System Operator, Inc.

Docket No. ER13-2124, Midcontinent Independent System Operator, Inc.

Docket No. ER11-2059, Midwest Independent Transmission System Operator, Inc.

Docket No. ER14-2154, Midcontinent Independent System Operator, Inc.

Docket No. ER14-2156, Midcontinent Independent System Operator, Inc.

Docket No. ER14-2368, Midcontinent Independent System Operator, Inc.

Docket No. ER14-1713, Midcontinent Independent System Operator, Inc.

Docket No. ER14-1736, Midcontinent Independent System Operator, Inc.

Docket No. ER14-1725, Midcontinent Independent System Operator, Inc.

Docket No. ER14-2445, Midcontinent Independent System Operator, Inc.

Docket No. ER14-2562, Midcontinent Independent System Operator, Inc.

Docket No. ER14-2566, Midcontinent Independent System Operator, Inc.

Docket No. ER14-2599, Midcontinent Independent System Operator, Inc.

Docket No. ER14-1243, Midcontinent Independent System Operator, Inc.

Docket No. ER14-2747, Midcontinent Independent System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: October 9, 2014.
Kimberly D. Bose,
Secretary.

[FR Doc. 2014-24611 Filed 10-15-14; 8:45 am]

BILLING CODE 6717-01-P